DEPARTMENT OF COMMERCE

International Trade Administration

[A-520-803]

Polyethylene Terephthalate Film, Sheet, and Strip From the United Arab Emirates: Rescission of Antidumping Duty Administrative Review; 2017-2018

AGENCY: Enforcement and Compliance, International Trade Administration, Department of Commerce.

SUMMARY: The Department of Commerce (Commerce) is rescinding its administrative review of the antidumping duty (AD) order on polyethylene terephthalate film, sheet, and strip (PET film) from the United Arab Emirates (UAE) for the period of review (POR), November 1, 2017, through October 31, 2018.

DATES: Applicable September 5, 2019.

FOR FURTHER INFORMATION CONTACT: Andrew Huston, AD/CVD Operations, Office VII, Enforcement and Compliance, International Trade Administration, U.S. Department of Commerce, 1401 Constitution Avenue NW, Washington, DC 20230; telephone: (202) 482-4261.

SUPPLEMENTARY INFORMATION:

Background

On November 1, 2018, Commerce published in the Federal Register a notice of opportunity to request an administrative review of the AD order on PET film from the UAE.¹ Commerce received a timely request from DuPont Teijin Film, Mitsubishi Polyester Film, Inc., and SKC Inc. (collectively, the petitioners), in accordance with section 751(a) of the Tariff Act of 1930, as amended (the Act), and 19 CFR 351.213(b), to conduct an administrative review of this AD order for Flex Middle East FZE (Flex).² No other party requested an administrative review of this order. Pursuant to the review request filed by the petitioners, and in accordance with 19 CFR 351.221(c)(1)(i), on February 6, 2019, Commerce published in the Federal Register a notice of initiation of an administrative review covering Flex.³ On May 3, 2019, the petitioners timely withdrew their request for an administrative review of Flex.⁴

¹ See Antidumping or Countervailing Duty Order, Finding, or Suspended Investigation; Opportunity to Request Administrative Review, 83 FR 54912 (November 1, 2018); see also Correction to Notice of Opportunity to Request Administrative Review, 83 FR 56819 (November 14, 2018).

² See Petitioners' Letter, “Polyethylene Terephthalate Film, Sheet and Strip from the United Arab Emirates: Request for Antidumping Duty Administrative Review,” dated November 30, 2018.

³ See Initiation of Antidumping and Countervailing Duty Administrative Reviews, 84 FR 2159 (February 6, 2019).

⁴ See Petitioners' Letter, “Polyethylene Terephthalate Film, Sheet and Strip from the United Arab Emirates: Withdrawal of Request for Antidumping Duty Administrative Review,” dated May 3, 2019.

Rescission of Review

Pursuant to 19 CFR 351.213(d)(1), Commerce will rescind an administrative review, in whole or in part, if the party, or parties, that requested a review withdraw the request/s within 90 days of the publication of the notice of initiation of the requested review. As noted above, the petitioners withdrew their request for review by the 90-day deadline, and no other party requested an administrative review of this order. Therefore, in response to the timely withdrawal of the request for review, and, in accordance with 19 CFR 351.213(d)(1), Commerce is rescinding this administrative review in its entirety.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue assessment instructions to CBP 15 days after the publication of this notice in the Federal Register.

Notification to Importers

This notice serves as a final reminder to importers of their responsibility under 19 CFR 351.402(f)(2) to file a certificate regarding the reimbursement of ADs prior to liquidation of the relevant entries during this POR. Failure to comply with this requirement could result in Commerce's presumption that reimbursement of ADs occurred and the subsequent assessment of double ADs.

Notification Regarding Administrative Protective Order

This notice also serves as the only reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a sanctionable violation.

This notice is published in accordance with section 771(i)(1) of the Act, and 19 CFR 351.213(d)(4).

Dated: August 29, 2019.
James Maeder,
Deputy Assistant Secretary for Antidumping and Countervailing Duty Operations.

[FR Doc. 2019-19194 Filed 9-4-19; 8:45 am]

BILLING CODE 3510-DS-P